NATIONAL CREDIT UNION ADMINISTRATION

Sunshine Act Meetings

TIME AND DATE: 10:00 a.m., Thursday, June 22, 2023.

PLACE: Board Room, 7th Floor, Room 7B, 1775 Duke Street (All visitors must use Diagonal Road Entrance), Alexandria, VA 22314-3428.

STATUS: Open.

MATTERS TO BE CONSIDERED:

1. Request for Comment, Operating Fee Schedule Methodology.

2. Board Briefing, New Charter Modernization.

3. Proposed Interpretative Ruling and Policy Statement, Minority Depository Institution Preservation Program.

CONTACT PERSON FOR MORE INFORMATION: Melane Conyers-Ausbrooks, Secretary of the Board, Telephone: 703-518-6304.

Melane Conyers-Ausbrooks,
Secretary of the Board.

[FR Doc. 2023-13225 Filed 6-16-23; 4:15 pm]

BILLING CODE 7535-01-P